ENVIRONMENTAL PROTECTION AGENCY

[ER-FRL-6649-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 4, 2003 (68 FR 16511).

Draft EISs

ERP No. D-AFS-D65029-PA Rating LO, Spring Creek Project Area (SCPA), To Achieve and Maintain Desired Conditions, Allegheny National Forest, Marienville Ranger District, Elk and Forest Counties, PA.

Summary: EPA expressed lack of objections with the proposed action which combines the Preferred Alternative and implementing all the recreation proposals in Alternative 2.

ERP No. D-AFS-J65402-WY Rating EC2, Tongue Allotment Management Plan, Proposal to Continue Livestock Grazing on All or Portions of the 22 Allotment, Bighorn National Forest, Tongue and Medicine Wheel/Paintrock Ranger Districts, Johnson, Sheridan and Bighorn Counties, WY.

Summary: EPA expressed environmental concerns with continuing adverse impacts to water quality from livestock grazing and recreation. Especially impacts to streams and riparian zones from physical disturbance, fecal coliform and other bacteria in streams, and other waterbodies and limited resource to manage recreation and livestock activities.

ERP No. D-AFS-L65447-ID Rating LO, EastBridge Cattle Allotment Management Plan Revision (AMP), Authorization of Continued Grazing, Caribou-Targhee National Forest, Soda Springs Ranger District, Caribou and Bonneville Counties, ID and Lincoln County, WY.

Summary: EPA used a screening tool to conduct a limited review of the draft EIS and based upon the screen, does not foresee having any environmental objections to the proposed project.

ERP No. D-NAS-E12006-FL Rating LO, International Space Research Park (ISRP) to Bring New Research and Development Uses to the John F. Kennedy Center, Brevard County, FL.

Summary: EPA has no objections to the proposed research center.

ERP No. D-SFW-K39083-CA Rating EC2, South Bay Salt Ponds Initial Stewardship Plan, To Maintain and Enhance the Biological and Physical Conditions, South San Francisco Bay, CA.

Summary: EPA expressed environmental concerns about how conclusions were reached regarding air emissions and environmental justice impacts. Concerns were also expressed about the hydraulic models, monitoring plan development, the alternatives analysis, and Spartina alterniflora eradication. EPA requested that the final EIS clarify or provide additional information to address these concerns.

ERP No. D-UAF-D52001-WV Rating EC2, Aircraft Conversion for the 167th Air Wing (167 AW) of the West Virginia Air National Guard, Converting C-13OH Transport Aircraft to the Larges C-5 Transport Aircraft, Acquisition of Land via Lease, and Construction of Facilities on existing and acquired Parcel, Berkeley County, WV.

Summary: EPA expressed concern related to aircraft noise impacts, land use specific to runway protection zones affecting residences, agricultural land/undeveloped areas and aviation safety resulting from the closure of Runway 17/35. EPA requested additional information to fully assess the impacts associated with the proposed action and its relationship to the surrounding community and the function of the airport.

ERP No. D-USN-E11051-MS Rating LO, Purchase of Land in Hancock County, Mississippi, for a Naval Special Operations Forces Training Range, To Improve Riverine and Jungle Training Available, John C. Stennis Space Center, Hancock County, MS.

Summary: EPA has no environmental objections to the proposed land purchase.

ERP No. DS-NOA-K91008-00 Rating LO, Pelagic Fisheries of the Western Pacific Region, Fishery Management Plan, Regulatory Amendment, Management Measures to Implement New Technologies for the Western Pacific Pelagic Longline Fisheries, Hawaii, American Samoa, Guam and Commonwealth of the Northern Marianas Islands.

Summary: While EPA has no objection to the proposed project, EPA requested clarification on upcoming management measures for FMP and on NMFS's consultation under section 7 of the Endangered Species Act.

Final EISs

ERP No. F-AFS-E65064-AL, Alabama National Forests Revised Land and Resource Management Plan, Implementation, Bankhead National Forest, Lawrence, Winston and Franklin Counties, AL.

Summary: EPA continues to express concerns about designation of source water protection areas and provided additional comments on strengthening forest-wide standards related to protection of water quality.

ERP No. F-AFS-K65247-CA, Giant Sequoia National Monument Management Plan, Implementation, Establishment of Management Directions for Land and Resources, Sequoia National Forest, Fresno, Kern and Tulane Counties, CA.

Summary: EPA expressed continuing concerns regarding the changes in guideline for management of sequoia groves and old forest ecosystems, the deferral of addressing road impacts in the Monument, and the selection of the alternative that offers less specific environmental protections, especially in reference to habitat fragmentation road decommissioning target and reducing sedimentation.

ERP No. F-COME-F36164-IL, Programmatic EIS—East St. Louis and Vicinity, Illinois Ecosystem Restoration and Flood Damage Reduction Project, Implementation, Madison and St. Clair Counties, IL.

Summary: EPA has no objection to this multi-objective ecological restoration and flood control project which will take a tiered approach to test and implement upland sediment control measures in order to protect the viability of lowland ecological restoration in the flood zone.

ERP No. F-DOE-C22003-NY, West Valley Demonstration Project, Waste Management, Onsite Management and Offsite Transportation of Radioactive Waste, West Valley, Cattaraugus County, NY.

Summary: No formal comment letter was sent to the preparing agency.

ERP No. F-FHW-F40412-OH, OH-161/37 Improvement, from OH-161(New Albany Bypass) to west of OH-161/37 Interchange with OH-16, Funding, Franklin and Licking Counties, OH.

Summary: While EPA has no objections with the preferred alternative, EPA did request clarification of indirect wetland impacts, monitoring/mitigation, and habitat specifics for the Indiana Bat be included in the ROD.

ERP No. F-FRC-E03011-FL, Tractebel Calypso Pipeline Project, Natural Gas Transportation Service for 832,000 dekatherms/day to South Florida, Construction and Operation, Right-of-Way Grant and U.S. Army COME Section 10 and 404 Permits Issuance, Exclusive Economic Zone (EEZ) with the Bahamas, Fort Lauderdale, Broward County, FL.

Summary: EPA's remaining concerns include (1) whether the proposed Calypso and Ocean Express pipelines could be combined into one single alignment to reduce potential environmental impacts, (2) the success potential of the proposed Horizontal Directional Drilling techniques, (3) qualification of deepwater impacts, and (4) the turbidity threshold proposed for this project.

ERP No. F-NPS-C61055-NJ, Morristown National Historical Park General Management Plan, Implementation, Morris and Somerset Counties, NJ.

Summary: No formal comment letter was sent to the preparing agency.

ERP No. F-SFW-K91011-CA, Programmatic EIS—San Francisco Estuary Invasive Spartina Project, Spartina Control Program to Preserve and Restore Ecological Integrity of the Estuary's Intertidal Habitats, Alameda, Contra Costa, Marin, Napa, San Francisco and San Mateo, CA.

Summary: EPA's previous concerns have been addressed, therefore EPA has no objections to the action as proposed.

ERP No. FS-AFS-L65232-ORDeep Vegetation Management Project, Implementation, Selected Preferred Alternative is C, Ochoo National Forest, Paulina Ranger District, Crook and Wheeler Counties, OR.

Summary: No formal comment letter was sent to the preparing agency.

Dated: March 23, 2004.
Ken Mittelholtz,
Environmental Protection Specialist, Office of Federal Activities.

[FR Doc. 04-6850 Filed 3-25-04; 8:45 am]

BILLING CODE 6560-50-P